DEPARTMENT OF ENERGY

Federal Energy Regulatory Commission

[Docket No. EL08-49-000]

BJ Energy LLC, Franklin Power LLC, GLE Trading LLC, Ocean Power LLC, Pillar Fund LLC, Complainants, v. PJM Interconnection, L.L.C., Respondent; Notice of Complaint

April 1, 2008.

Take notice that on March 28, 2008, BJ Energy LLC, Franklin Power LLC, GLE Trading LLC, Ocean Power LLC, and Pillar Fund LLC (Complainants) filed a formal complaint against PJM Interconnection, L.L.C. (Respondent) alleging that the Respondent is violating its own tariff on an ongoing basis because of (1) the Respondent's refusal to return excess collateral requested by the Complainants and due and payable to the Complainants, and (2) the Respondent's refusal to distribute certain amounts of revenue due and payable to the Complainants. The Complainants request the Commission to direct the Respondent to immediately return the revenues due and the excess collateral requested by the Complainants, pursuant to sections 206 of the Commission's Rules of Practice and Procedure, 18 CFR 385.206 and sections 205, 206, 306 and 309 of the Federal Power Act, 16 U.S.C. 824(d), 824(e), 825(e) and 825(h).

The Complainants state that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 17, 2008.

Kimberly D. Bose,
Secretary.

[FR Doc. E8-7282 Filed 4-7-08; 8:45 am]

BILLING CODE 6717-01-P